Title 3—

The President

Presidential Determination No. 2004-15 of December 16, 2003

Determination to Authorize Drawdown for Afghanistan

Memorandum for the Secretary of State [and] the Secretary of Defense

Consistent with the authority vested in me by the Constitution and laws of the United States, including section 202 and other relevant provisions of the Afghanistan Freedom Support Act (Public Law 107-327) and section 506 of the Foreign Assistance Act of 1961, as amended, 22 U.S.C. 2318, I hereby direct the drawdown of up to $135 million of defense articles, defense services, and military education and training from the Department of Defense for the Transitional Islamic State of Afghanistan.

The Secretary of State is authorized and directed to report this determination to the Congress and to arrange for its publication in the Federal Register.

B

THE WHITE HOUSE,

Washington, December 16, 2003.

[FR Doc. 03-32300

Filed 12-30-03; 8:45 am]

Billing code 4710-10-P